DEPARTMENT OF ENERGY

Federal Energy Regulatory Commission

Combined Notice of Filings #1

Take notice that the Commission received the following exempt wholesale generator filings:

Docket Numbers: EG21-20-000.

Applicants: Beowawe Power, LLC.

Description: Notice of Self-Certification of Exempt Wholesale Generator Status of Beowawe Power, LLC.

Filed Date: 11/5/20.

Accession Number: 20201105-5071.

Comments Due: 5 p.m. ET 11/27/20.

Docket Numbers: EG21-21-000.

Applicants: Cameron Ridge, LLC.

Description: Notice of Self-Certification of Exempt Wholesale Generator Status of Cameron Ridge, LLC.

Filed Date: 11/5/20.

Accession Number: 20201105-5078.

Comments Due: 5 p.m. ET 11/27/20.

Docket Numbers: EG21-22-000.

Applicants: Cameron Ridge II, LLC.

Description: Notice of Self-Certification of Exempt Wholesale Generator Status of Cameron Ridge II, LLC.

Filed Date: 11/5/20.

Accession Number: 20201105-5096.

Comments Due: 5 p.m. ET 11/27/20.

Docket Numbers: EG21-23-000.

Applicants: DifWind Farms LTD VI.

Description: Notice of Self-Certification of Exempt Wholesale Generator Status of DifWind Farms LTD VI.

Filed Date: 11/5/20.

Accession Number: 20201105-5099.

Comments Due: 5 p.m. ET 11/27/20.

Docket Numbers: EG21-24-000.

Applicants: Terra-Gen Dixie Valley, LLC.

Description: Notice of Self-Certification of Exempt Wholesale Generator Status of Terra-Gen Dixie Valley, LLC.

Filed Date: 11/5/20.

Accession Number: 20201105-5100.

Comments Due: 5 p.m. ET 11/27/20.

Docket Numbers: EG21-25-000.

Applicants: Garnet Wind, LLC.

Description: Notice of Self-Certification of Exempt Wholesale Generator Status of Garnet Wind, LLC.

Filed Date: 11/5/20.

Accession Number: 20201105-5103.

Comments Due: 5 p.m. ET 11/27/20.

Take notice that the Commission received the following electric rate filings:

Docket Numbers: ER03-1001-003.

Applicants: Galt Power, Inc.

Description: Notice of Change in Status of Galt Power, Inc.

Filed Date: 10/30/20.

Accession Number: 20201030-5467.

Comments Due: 5 p.m. ET 11/20/20.

Docket Numbers: ER17-105-007; ER09-1196-003; ER10-1362-007; ER11-3959-009; ER12-2639-010; ER12-726-008; ER15-1019-008; ER17-104-007; ER17-556-005; ER18-2158-002.

Applicants: Broadview Energy JN, LLC, Broadview Energy KW, LLC, Grady Wind Energy Center, LLC, Fowler Ridge IV Wind Farm LLC, Hatchet Ridge Wind, LLC, Spring Valley Wind LLC, Ocotillo Express LLC, Lost Creek Wind, LLC, Post Rock Wind Power Project, LLC, Stillwater Wind, LLC.

Description: Notice of Change in Status of Broadview Energy JN, LLC, et. al.

Filed Date: 10/30/20.

Accession Number: 20201030-5466.

Comments Due: 5 p.m. ET 11/20/20.

Docket Numbers: ER19-1781-001.

Applicants: MeterGenius, Inc.

Description: Notice of Change in Status of MeterGenius, Inc.

Filed Date: 10/30/20.

Accession Number: 20201030-5468.

Comments Due: 5 p.m. ET 11/20/20.

Docket Numbers: ER21-317-000.

Applicants: PJM Interconnection, L.L.C.

Description: § 205(d) Rate Filing: Original WMPA 5845; Queue No. AF1-300 to be effective 10/7/2020.

Filed Date: 11/4/20.

Accession Number: 20201104-5075.

Comments Due: 5 p.m. ET 11/25/20.

Docket Numbers: ER21-318-000.

Applicants: Morgantown Steam, LLC.

Description: § 205(d) Rate Filing: Supplemental Notice of Succession to be effective 8/4/2020.

Filed Date: 11/4/20.

Accession Number: 20201104-5078.

Comments Due: 5 p.m. ET 11/25/20.

Docket Numbers: ER21-319-000.

Applicants: PJM Interconnection, L.L.C.

Description: § 205(d) Rate Filing: Original ISA No. 5822; Queue No. AE1-143 to be effective 10/7/2020.

Filed Date: 11/4/20.

Accession Number: 20201104-5085.

Comments Due: 5 p.m. ET 11/25/20.

Docket Numbers: ER21-320-000.

Applicants: San Diego Gas & Electric Company.

Description: Informational Filing of Transmission Owner Rate Appendix XII [Cycle 3] of San Diego Gas & Electric Company.

Filed Date: 10/30/20.

Accession Number: 20201030-5458.

Comments Due: 5 p.m. ET 11/20/20.

Docket Numbers: ER21-322-000.

Applicants: PJM Interconnection, L.L.C.

Description: § 205(d) Rate Filing: Original WMPA, Service Agreement No. 5835; Queue No. AF2-288 to be effective 10/6/2020.

Filed Date: 11/5/20.

Accession Number: 20201105-5033.

Comments Due: 5 p.m. ET 11/27/20.

Docket Numbers: ER21-323-000.

Applicants: PJM Interconnection, L.L.C.

Description: § 205(d) Rate Filing: Original WMPA SA No. 5842; Queue No. AF2-286 to be effective 10/6/2020.

Filed Date: 11/5/20.

Accession Number: 20201105-5066.

Comments Due: 5 p.m. ET 11/27/20.

Docket Numbers: ER21-324-000.

Applicants: Public Service Company of New Mexico.

Description: Compliance filing: Refund Report in response to Audit in Docket No. PA18-1-000 to be effective N/A.

Filed Date: 11/5/20.

Accession Number: 20201105-5070.

Comments Due: 5 p.m. ET 11/27/20.

Docket Numbers: ER21-325-000.

Applicants: PJM Interconnection, L.L.C.

Description: § 205(d) Rate Filing: Original WMPA SA No. 5843; Queue No. AF2-287 to be effective 10/6/2020.

Filed Date: 11/5/20.

Accession Number: 20201105-5072.

Comments Due: 5 p.m. ET 11/27/20.

Docket Numbers: ER21-326-000.

Applicants: Direct Energy Business Marketing, LLC.

Description: Compliance filing: Report Regarding a Spot Market Sale of Electric in WECC to be effective N/A.

Filed Date: 11/5/20.

Accession Number: 20201105-5091.

Comments Due: 5 p.m. ET 11/27/20.

Docket Numbers: ER21-327-000.

Applicants: Commonwealth Edison Company, PJM Interconnection, L.L.C.

Description: § 205(d) Rate Filing: ComEd submits IA No. 5742 to be effective 10/29/2020.

Filed Date: 11/5/20.

Accession Number: 20201105-5097.

Comments Due: 5 p.m. ET 11/27/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

DATED: November 5, 2020.
Nathaniel J. Davis, Sr.,
Deputy Secretary.

[FR Doc. 2020-25002 Filed 11-10-20; 8:45 am]

BILLING CODE 6717-01-P